DEPARTMENT OF COMMERCE

National Oceanic and Atmospheric Administration

50 CFR Part 622

[I.D. 071802B]

Fisheries of the Caribbean, Gulf of Mexico, and South Atlantic; Sustainable Fisheries Act (SFA) Requirements for Species in the U.S. Caribbean; Comprehensive Amendment Addressing SFA Definitions in Fishery Management Plans of Puerto Rico and the U.S. Virgin Islands; Scoping Meetings

AGENCY: National Marine Fisheries Service (NMFS), National Oceanic and Atmospheric Administration (NOAA), Commerce.

ACTION: Notice of scoping meetings; request for comments.

SUMMARY: The Council will convene scoping meetings to solicit additional public comments on the scope of issues to be addressed in a draft supplemental environmental impact statement (DSEIS) that will assess the impacts on the natural and human environment of the various managed fisheries related to the management measures proposed under the draft Comprehensive Amendment Addressing SFA Definitions and Other Required Provisions of the Magnuson-Stevens Fishery Conservation and Management Act in the Fishery Management Plans (FMPs) of Puerto Rico and the U.S. Virgin Islands (Comprehensive SFA Amendment). The purpose of this document is to solicit additional public comments on the scope of the issues to be addressed in the DSEIS, which will be submitted to NMFS for filing with the Environmental Protection Agency (EPA) for publication of a Notice of Availability for public comment.

DATES: The scoping meetings will be held on August 6 and 7, 2002. See SUPPLEMENTARY INFORMATION for specific dates and times for the scoping meetings.

ADDRESSES: Scoping meetings will be held in Miami, FL. See SUPPLEMENTARY INFORMATION for specific meeting locations.

FOR FURTHER INFORMATION CONTACT: Graciela Garcia-Moliner; phone: 787-766-5926; e-mail: Graciela.Garcia-Moliner@noaa.gov or Michael C. Barnette; phone: 727-570-5305; fax: 727-570-5583; e-mail: Michael.Barnette@noaa.gov.

SUPPLEMENTARY INFORMATION: The Council is preparing to amend the FMPs for Corals and Reef Associated Plants and Invertebrates, Queen Conch, Reef Fish Fishery, and Spiny Lobster to: (1) address the consistency with new definitions; (2) address bycatch management measures and bycatch reporting requirements; (3) provide descriptions of the commercial, recreational, and charter fisheries and quantify trends in landings and data specified for each sector; (4) address fishery impact statements to insure they incorporate the likely effects of management measures on fishing communities; and (5) address overfishing provisions specifying objective and measurable criteria for identifying whether a species is overfished, and provide subsequent measures to rebuild overfished stocks.

The DSEIS will describe the proposed management measures in the Comprehensive SFA Amendment and will assess the environmental impacts of these proposed and alternative measures. To ensure compliance with the requirements of the SFA in the various FMPs, the Council intends to evaluate numerous management measures such as permits; commercial reporting requirements, including species-specific and bycatch reporting; limited entry; time/area closures, including closures for spawning aggregations and habitat protection; size limits; trip limits; gear restrictions; and recreational possession limits. The Council originally published a notice of intent (NOI) to prepare a DSEIS, requested written comments, and notified the public of scoping meetings in the Federal Register on May 31, 2002 (67 FR 38060).

Once the Council completes the DSEIS, it will submit it to NMFS for filing with the EPA. The EPA will publish a notice of availability of the DSEIS for public comment in the Federal Register. The DSEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations. The Council will consider public comments received on the DSEIS before adopting final management measures for the Comprehensive SFA Amendment. The Council intends to prepare a final supplemental environmental impact statement (FSEIS) in support of the final Comprehensive SFA Amendment. The Council would then submit the final Comprehensive SFA Amendment and supporting FSEIS to NMFS for Secretary of Commerce (Secretarial) review, approval, and implementation under the Magnuson-Stevens Act. NMFS will announce availability of the Comprehensive SFA Amendment for public review during the Secretarial review period through a notification published in the Federal Register. During Secretarial review, NMFS will also file the FSEIS with the EPA for a final 30-day public comment period. This comment period will be concurrent with the Secretarial review period and will end prior to final agency action to approve, disapprove, or partially approve the Comprehensive SFA Amendment. All public comment periods on the Comprehensive SFA Amendment, its proposed implementing regulations, and its associated FSEIS will be announced through a notice published in the Federal Register. NMFS will consider all public comments received during the 60-day Secretarial review period, whether they are on the Comprehensive SFA Amendment, the FSEIS, or the proposed regulations, prior to final agency action.

The scoping meetings will be held from 9 a.m. to 5 p.m. at the following location and dates:

1. August 6, 2002: National Marine Fisheries Service Southeast Fisheries Science Center, 75 Virginia Beach Drive, Miami , FL, telephone: 305-361-4285; and

2. August 7, 2002: National Marine Fisheries Service Southeast Fisheries Science Center, 75 Virginia Beach Drive, Miami , FL, telephone: 305-361-4285

Special Accommodations

These meetings are physically accessible to people with disabilities. Requests for sign language interpretation or other auxiliary aids should be directed to Graciela Garcia-Moliner at the Council (see ADDRESSES).

Dated: July 24, 2002.
John H. Dunnigan,
Director, Office of Sustainable Fisheries, National Marine Fisheries Service.

[FR Doc. 02-19232 Filed 7-29-02; 8:45 am]

BILLING CODE 3510-22-S